DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 21, 2000.

Interested persons are invited to submit written comments regarding the subject matter of the investigations to the Director, Division of Trade Adjustment Assistance, at the address shown below, not later than April 21, 2000.

The petitions filed in this case are available for inspection at the Office of the Director, Division of Trade Adjustment Assistance, Employment and Training Administration, U.S. Department of Labor, 200 Constitution Avenue, NW, Washington, DC 20210.

Signed at Washington, DC this 20th day of March, 2000.
Grant D. Beale,
Program Manager, Division of Trade Adjustment Assistance.

Appendix
[Petitions instituted on 03/20/00]
TA-W | Subject firm (petitioners) | Location | Date of petition | Product(s)
37,470 | Radionic's, Inc (Wrks) | Salinas, CA | 03/10/00 | Communicators, Keypads.
37,471 | Huffy Bicycles (Comp) | Southhaven, MS | 02/24/00 | Bicycles.
37,472 | MCNIC Oil and Gas Co (Wrks) | Detroit, MI | 02/21/00 | Natural Gas.
37,473 | Far East International (Wrks) | Hunt. Beach, CA | 03/05/00 | Custom Doors.
37,474 | Now Fabrics, Inc (Comp) | New York, NY | 03/01/00 | Knitted Fabrics.
37,475 | Findlay Industries (Wrks) | Johnstown, OH | 03/07/00 | Auto Interior Trim Products.
37,476 | Triten Leathergoods (Comp) | Johnson City, TN | 03/06/00 | Business Leather Accessories.
37,477 | Pinewood Casuals, Inc (Comp) | Philipsburg, PA | 02/21/00 | Men's Suit Pants.
37,478 | Hartwell Sports (Comp) | Hartwell, GA | 02/25/00 | Knit Shirts.
37,479 | Rocky Shoes and Boots (UNITE) | Nelsonville, OH | 03/10/00 | Occupational Boots.
37,480 | Chevron Info. Technology (Comp) | San Francisco, CA | 03/10/00 | Provides Support to Parent Co.
37,481 | Inland Refining (Comp) | Woods Cross, UT | 03/08/00 | Oil and Gas.
37,482 | Quantum Corp (Comp) | Colorado Sprg, CO | 02/29/00 | Computer Storage Drives.
37,483 | American Identity (Comp) | Ocean Springs, MS | 03/08/00 | Headwear.
37,484 | Calgon Corp (Wrks) | Ellwood City, PA | 03/06/00 | Specialty Chemicals.
37,485 | Rising Eagle Enterprises (Comp) | East Tawas, MI | 03/09/00 | Cameras.
37,486 | Down River Forest (AWPP) | Woodland, WA | 03/06/00 | Wood Trim, Molding, Block Panels.
37,487 | Alta Gold Co (Wrks) | Fernley, NV | 03/07/00 | Gold.
37,488 | Tyco Electronics (Comp) | Marion, KY | 03/07/00 | Electrical Relays and Circuit Breakers.
37,489 | Hasbro Manufacturing Serv (Comp) | El Paso, TX | 03/07/00 | Toys.
37,490 | Brechteen (Wrks) | Chesterfield, MI | 03/10/00 | Sausage Casings.
37,491 | Cherrybell Mfg Corp (Comp) | Tucson, AZ | 02/28/00 | Ladies' Underwear.
37,492 | ISO Electronics, Inc (Comp) | Indianapolis, IN | 03/08/00 | Resistors and Diodes.
37,493 | Levi Strauss & Co (Wrks) | El Paso, TX | 03/09/00 | Pants.
37,494 | Border Apparel, Inc (UNITE) | El Paso, TX | 02/17/00 | Jeans.
37,495 | Wolverine Tube, Inc (Comp) | Roxboro, NC | 02/20/00 | Copper Tube.

[FR Doc. 00-8929 Filed 4-10-00; 8:45 am]

BILLING CODE 4510-30-M